DEPARTMENT OF HEALTH AND HUMAN SERVICES

National Institutes of Health

Center for Scientific Review; Amended Notice of Meeting

Notice is hereby given of a change in the meeting of the Center for Scientific Review Special Emphasis Panel, July 23, 2010, 5:30 p.m. to 6 p.m. The River Inn, 924 25th Street, NW., Washington, DC 20037 which was published in the Federal Register on July 15, 2010, 75 FR 41212.

The meeting will be held August 6, 2010. The meeting time and location remain the same. The meeting is closed to the public.

Dated: July 19, 2010.
Jennifer Spaeth,
Director, Office of Federal Advisory Committee Policy.

[FR Doc. 2010-18053 Filed 7-22-10; 8:45 am]

BILLING CODE 4140-01-P